DEPARTMENT OF COMMERCE

National Oceanic and Atmospheric Administration

RIN 0648-XE862

Gulf of Mexico Fishery Management Council; Public Meetings

AGENCY: National Marine Fisheries Service (NMFS), National Oceanic and Atmospheric Administration (NOAA), Commerce.

ACTION: Notice; public meetings.

SUMMARY: The Gulf of Mexico Fishery Management Council (Council) will hold two Coral Grant Stakeholder Engagement Meetings to educate fishermen using bottom contacting gear on the importance of coral reef habitats and to gather input on potential coral protection mechanisms and proposed areas that may warrant Habitat Area of Particular Concern designation.

DATES: These meetings will be held September 26 and 27, 2016; and will begin at 6 p.m. and will conclude no later than 9 p.m. For specific dates and times, see SUPPLEMENTARY INFORMATION.

ADDRESSES: The public documents can be obtained by contacting the Gulf of Mexico Fishery Management Council, 2203 N. Lois Avenue, Suite 1100, Tampa, FL 33607; (813) 348-1630 or on their Web site at www.gulfcouncil.org.

Meeting addresses: The stakeholder engagement meetings will be held in Houma, LA and Bayou La Batre, AL. For specific locations, see SUPPLEMENTARY INFORMATION.

FOR FURTHER INFORMATION CONTACT: Douglas Gregory, Executive Director, Gulf of Mexico Fishery Management Council; telephone: (813) 348-1630.

SUPPLEMENTARY INFORMATION: Council staff will give a brief presentation on coral reef habitats in the Gulf of Mexico and present information on potential coral protection mechanisms. Following the presentation, Council staff will open the meeting for questions and public comments on proposed areas that may warrant Habitat Area of Particular Concern designation. The schedule is as follows:

Locations, Schedules, and Agendas

Monday, September 26, 2016; Courtyard Marriott, 142 Library Drive, Houma, LA 70360; telephone: (985) 223-8996.

Tuesday, September 27, 2016; Bayou La Batre Community Center, 12745 Padgett Switch Road, (County Road 23), Irvington, AL 36544; telephone: (251) 824-7918.

Special Accommodations

These meetings are physically accessible to people with disabilities. Requests for sign language interpretation or other auxiliary aids should be directed to Kathy Pereira (see ADDRESSES), at least 5 working days prior to the meeting date.

Authority: 16 U.S.C. 1801 et seq.

Dated: September 1, 2016.
Tracey L. Thompson,
Acting Deputy Director, Office of Sustainable Fisheries, National Marine Fisheries Service.

[FR Doc. 2016-21432 Filed 9-6-16; 8:45 am]

BILLING CODE 3510-22-P